DEPARTMENT OF HEALTH AND HUMAN SERVICES

Centers for Disease Control and Prevention

Disease, Disability, and Injury Prevention and Control Special Emphasis Panel (SEP): Initial Review

The meeting announced below concerns Grants for Injury Control Research Centers (Panel 1) and (Panel 2), Funding Opportunity Announcement (FOA) CE14-001, Initial Review.

SUMMARY: This document corrects two notices that were published in the Federal Register on March 19, 2014, Volume 79, Number 53, pages 15349 and 15350. The times and dates should read as follows:

DATES: Times and Dates:

7:00 p.m.-8:30 p.m. EST, April 14, 2014 (Closed)

8:30 a.m.-5:30 p.m. EST, April 15-16, 2014 (Closed)

FOR FURTHER INFORMATION CONTACT: CAPT Mildred Williams-Johnson, Ph.D., DABT, Director, Extramural Research Program Office, National Center for Injury Prevention and Control, Centers for Disease Control and Prevention, 1600 Clifton Road NE., Mailstop F63, Atlanta, GA 30333, Telephone: (770) 488-8806.

The Director, Management Analysis and Services Office, has been delegated the authority to sign Federal Register notices pertaining to announcements of meetings and other committee management activities, for both the Centers for Disease Control and Prevention and the Agency for Toxic Substances and Disease Registry.

Gary Johnson,
Acting Director, Management Analysis and Services Office, Centers for Disease Control and Prevention.

[FR Doc. 2014-25839 Filed 10-29-14; 8:45 am]

BILLING CODE 4163-18-P